DEPARTMENT OF COMMERCE

International Trade Administration

[C-475-819]

Certain Pasta from Italy: Final Results of the 12th (2007) Countervailing Duty Administrative Review

AGENCY: Import Administration, International Trade Administration, Department of Commerce.

SUMMARY: The U.S. Department of Commerce (“the Department”) has completed its administrative review of the countervailing duty (“CVD”) order on certain pasta from Italy for the period January 1, 2007, through December 31, 2007. On May 28, 2009, we published the Preliminary Results of this review. See Certain Pasta from Italy: Preliminary Results of the 12th (2007) Countervailing Duty Administrative Review, 74 FR 25489 (May 28, 2009) (“Preliminary Results”). We did not receive any comments on the Preliminary Results and have made no revisions. We find that De Matteis Agroalimentare S.p.A. (“De Matteis”) received countervailable subsidies. The final net subsidy rate for De Matteis is listed below in the section entitled “Final Results of Review.”

EFFECTIVE DATE: September 15, 2009.

FOR FURTHER INFORMATION CONTACT: Shelly Atkinson or Brandon Farlander, AD/CVD Operations, Office 1, Import Administration, U.S. Department of Commerce, 14th Street and Constitution Avenue, NW, Washington, DC 20230; telephone (202) 482-0116 and (202) 482-0182, respectively.

SUPPLEMENTARY INFORMATION:

Background

On July 24, 1996, the Department published a CVD order on certain pasta (“pasta” or “subject merchandise”) from Italy. See Notice of Countervailing Duty Order and Amended Final Affirmative Countervailing Duty Determination: Certain Pasta From Italy, 61 FR 38544 (July 24, 1996). On July 11, 2008, the Department published a notice of “Opportunity to Request Administrative Review” of this CVD order for calendar year 2007, the period of review (“POR”). See Antidumping or Countervailing Duty Order, Finding, or Suspended Investigation; Opportunity To Request Administrative Review, 73 FR 39948 (July 11, 2008). On July 28, 2008, we received such a request from F.lli De Cecco di Filippo Fara San Martino S.p.A. (“De Cecco”). On July 31, 2008, we received a review request for review from De Matteis. On July 31, 2008, we received a collective request from New World Pasta Company, American Italian Pasta Company, and Dakota Growers Pasta Company (“petitioners”) for a review of De Matteis. In accordance with 19 CFR 351.221(c)(1)(i), we published a notice of initiation of this review on August 26, 2008. See Initiation of Antidumping and Countervailing Duty Administrative Reviews, 73 FR 50308 (August 26, 2008).

On September 15, 2008, we issued CVD questionnaires to the Commission of the European Union (“EU”), the Government of Italy (“GOI”), De Matteis, and De Cecco. We received responses to our questionnaires in October and November 2008. On December 22, 2008, De Cecco withdrew its request for review. On January 27, 2009, we rescinded the review with respect to De Cecco. See Certain Pasta From Italy: Notice of Partial Rescission of Twelfth (2007) Countervailing Duty Administrative Review, 74 FR 4734 (January 27, 2009).

We issued supplemental questionnaires to De Matteis and the GOI in December 2008, January 2009, and March 2009, and we received responses to our supplemental questionnaires in December 2008, February 2009, March 2009, and April 2009.

Since the publication of the Preliminary Results, we invited interested parties to submit briefs. No briefs were received.

Period of Review

The period for which we are measuring subsidies, or POR, is January 1, 2007, through December 31, 2007.

Scope of the Order

Imports covered by the order are shipments of certain non-egg dry pasta in packages of five pounds four ounces or less, whether or not enriched or fortified or containing milk or other optional ingredients such as chopped vegetables, vegetable purees, milk, gluten, diastasis, vitamins, coloring and flavorings, and up to two percent egg white. The pasta covered by the scope of the order is typically sold in the retail market, in fiberboard or cardboard cartons, or polyethylene or polypropylene bags of varying dimensions.

Excluded from the scope of the order are refrigerated, frozen, or canned pastas, as well as all forms of egg pasta, with the exception of non-egg dry pasta containing up to two percent egg white. Also excluded are imports of organic pasta from Italy that are accompanied by the appropriate certificate issued by the Instituto Mediterraneo Di Certificazione, Bioagricoop S.r.l., QC&I International Services, Ecocert Italia, Consorzio per il Controllo dei Prodotti Biologici, Associazione Italiana per l"Agricoltura Biologica, or Codex S.r.l. In addition, based on publicly available information, the Department has determined that, as of August 4, 2004, imports of organic pasta from Italy that are accompanied by the appropriate certificate issued by Bioagricert S.r.l. are also excluded from the order. See Memorandum from Eric B. Greynolds to Melissa G. Skinner, dated August 4, 2004, which is on file in the Department's Central Records Unit (“CRU”) in Room 1117 of the main Department building. In addition, based on publicly available information, the Department has determined that, as of March 13, 2003, imports of organic pasta from Italy that are accompanied by the appropriate certificate issued by Instituto per la Certificazione Etica e Ambientale are also excluded from the order. See Memorandum from Audrey Twyman to Susan Kuhbach, dated February 28, 2006, entitled “Recognition of Instituto per la Certificazione Etica e Ambientale (ICEA) as a Public Authority for Certifying Organic Pasta from Italy” which is on file in the Department's CRU.

The merchandise subject to review is currently classifiable under items 1901.90.90.95 and 1902.19.20 of the Harmonized Tariff Schedule of the United States (“HTSUS”). Although the HTSUS subheadings are provided for convenience and customs purposes, the written description of the merchandise subject to the order is dispositive.

Scope Rulings

The Department has issued the following scope rulings to date:

(1) On August 25, 1997, the Department issued a scope ruling finding that multicolored pasta, imported in kitchen display bottles of decorative glass that are sealed with cork or paraffin and bound with raffia, is excluded from the scope of the antidumping (“AD”) and CVD orders. See Memorandum from Edward Easton to Richard Moreland, dated August 25, 1997, which is on file in the CRU.

(2) On July 30, 1998, the Department issued a scope ruling finding that multipacks consisting of six one-pound packages of pasta that are shrink-wrapped into a single package are within the scope of the AD and CVD orders. See Letter from Susan H. Kuhbach to Barbara P. Sidari, dated July 30, 1998, which is on file in the CRU.

(3) On October 26, 1998, the Department self-initiated a scope inquiry to determine whether a package weighing over five pounds as a result of allowable industry tolerances is within the scope of the AD and CVD orders. On May 24, 1999, we issued a final scope ruling finding that, effective October 26, 1998, pasta in packages weighing or labeled up to (and including) five pounds four ounces is within the scope of the AD and CVD orders. See Memorandum from John Brinkmann to Richard Moreland, dated May 24, 1999, which is on file in the CRU.

(4) On April 27, 2000, the Department self-initiated an anti-circumvention inquiry to determine whether Pastificio Fratelli Pagani S.p.A.'s importation of pasta in bulk and subsequent repackaging in the United States into packages of five pounds or less constitutes circumvention with respect to the AD and CVD orders on pasta from Italy pursuant to section 781(a) of the Tariff Act of 1930, as amended (“the Act”), and 19 CFR 351.225(b). See Certain Pasta From Italy: Notice of Initiation of Anti-Circumvention Inquiry on the Antidumping and Countervailing Duty Orders, 65 FR 26179 (May 5, 2000). On September 19, 2003, we published an affirmative finding of the anti-circumvention inquiry. See Anti-Circumvention Inquiry of the Antidumping and Countervailing Duty Orders on Certain Pasta from Italy: Affirmative Final Determinations of Circumvention of Antidumping and Countervailing Duty Orders, 68 FR 54888 (September 19, 2003).

Final Results of Review

In accordance with section 777A(e)(1) of the Act and 19 CFR 351.221(b)(5), we calculated an individual subsidy rate for the producer/exporter covered by this administrative review. Neither the petitioners nor the respondents commented on the Preliminary Results, and we found that no changes were warranted. Therefore, we have made no changes to the net subsidy rate calculated for the Preliminary Results.

For the period January 1, 2007, through December 31, 2007, we find the net subsidy rate for the producer/exporter under review to be the rate specified in the chart shown below:

Producer/Exporter | Net Subsidy Rate
De Matteis Agroalimentare S.p.A. | 2.48 percent
“All Others” Rate | 3.85 percent

Listed below are the programs we examined in the review and our findings with respect to each of these programs. For a complete analysis of the programs found to be countervailable, not countervailable and terminated, see Preliminary Results.

I. Programs Determined to be Countervailable

A. Industrial Development Grants Under Law 64/86

B. Industrial Development Grants Under Law 488/92

C. European Regional Development Fund (“ERDF”) Programma Operativo Plurifondo (“P.O.P.”) Grant

D. Social Security Reductions and Exemptions Sgravi

1. Law 196/97

2. Law 407/90

C. Law 289/02

1. Article 62 - Investments in Disadvantaged Areas

2. Article 63 - Increase in Employment

C. Law 662/96 Patti Territoriali

D. Law 662/96 Contratto di Programma

II. Programs Determined to be Not Countervailable

A. Social Security Reductions and Exemptions Sgravi

1. Law 223/91

a. Article 8, Paragraph 2

2. Legislative Decree (“L.D.”) 276/03 (modification to Law 25/55)

III. Programs Determined to Not be Used

A. Grant Received Pursuant to the Community Initiative Concerning the Preparation of Enterprises for the Single Market (“PRISMA”)

B. European Regional Development Fund (“ERDF”) Programma Operativo Multiregionale (“P.O.M.”) Grant

C. Certain Social Security Reductions and Exemptions Sgravi (including Law 223/91, Article 8, Paragraph 4 and Article 25, Paragraph 9)

D. Law 236/93 Training Grants

E. Law 1329/65 Interest Contributions (Sabatini Law) (Formerly Lump-Sum Interest Payment Under the Sabatini Law for Companies in Southern Italy)

F. Development Grants Under Law 30 of 1984

G. Law 908/55 Fondo di Rotazione Iniziative Economiche (Revolving Fund for Economic Initiatives) Loans

H. Law 317/91 Benefits for Innovative Investments

I. Brescia Chamber of Commerce Training Grants

J. Ministerial Decree 87/02

K. Law 10/91 Grants to Fund Energy Conservation

L. Export Restitution Payments

M. Export Credits Under Law 227/77

N. Capital Grants Under Law 675/77

O. Retraining Grants Under Law 675/77

P. Interest Contributions on Bank Loans Under Law 675/77

Q. Preferential Financing for Export Promotion Under Law 394/81

R. Urban Redevelopment Under Law 181

S. Industrial Development Grants Under Law 183/76

T. Interest Subsidies Under Law 598/94

U. Duty-Free Import Rights

V. European Social Fund Grants

W. Law 113/86 Training Grants

X. European Agricultural Guidance and Guarantee Fund

Y. Law 341/95 Interest Contributions on Debt Consolidation Loans (Formerly Debt Consolidation Law 341/95)

Z. Interest Grants Financed by IRI Bonds

AA. Article 44 of Law 448/01

IV. Programs Determined To Have Been Terminated

A. Social Security Reductions and Exemptions - Sgravi

1. Law 863/84

V. Previously Terminated Programs

A. Regional Tax Exemptions Under IRAP

B. VAT Reductions Under Laws 64/86 and 675/55

C. Corporate Income Tax (“IRPEG”)

D. Remission of Taxes on Export Credit Insurance Under Article 33 of Law 227/77

E. Export Marketing Grants Under Law 304/90

F. Tremonti Law 383/01

G. Social Security Reductions and Exemptions - Sgravi

1. Article 44 of Law 448/01

2. Law 337/90

The calculations will be disclosed to the interested parties in accordance with 19 CFR 351.224(b).

The Department will instruct U.S. Customs and Border Protection (“CBP”) to assess countervailing duties for De Matteis at the net subsidy rate shown above. The Department intends to issue appropriate instructions directly to CBP 15 days after publication of these final results of review.

For all other companies that were not reviewed (except Barilla G. e R. F.lli S.p.A. and Gruppo Agricoltura Sana S.r.l., which are excluded from the order, and Pasta Lensi S.r.l., for which the order was revoked), the Department has directed CBP to assess countervailing duties on all entries between January 1, 2007, and December 31, 2007, at the rates in effect at the time of entry.

The Department also intends to instruct CBP to collect cash deposits of estimated countervailing duties at the rates shown above on all shipments of the subject merchandise that are entered, or withdrawn from warehouse, for consumption on or after the date of publication of the final results of this administrative review.

For all non-reviewed firms (except Barilla G. e R. F.lli S.p.A. and Gruppo Agricoltura Sana S.r.l., which are excluded from the order, and Pasta Lensi S.r.l., for which the order was revoked), we will instruct CBP to collect cash deposits of estimated countervailing duties at the most recent company-specific or all-others rate applicable to the company. These rates shall apply to all non-reviewed companies until a review of a company assigned these rates is requested.

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: September 8, 2009.
Ronald K. Lorentzen,
Acting Assistant Secretary for Import Administration.

[FR Doc. E9-22189 Filed 9-14-09; 8:45 am]

BILLING CODE 3510-DS-S